DEPARTMENT OF DEFENSE

Department of the Air Force

HQ USAF Scientific Advisory Board

AGENCY: Department of the Air Force, DoD.

ACTION: Notice of meeting.

SUMMARY: Pursuant to Public Law 92-463, notice is hereby given of the forthcoming 2004 Summer Session Meeting. The purpose of the meeting is to develop recommendations for the Air Force from FY04 studies. This meeting will be closed to the public in accordance with section 552b of title 5, United States Code, specifically subparagraphs (c)(1) and (4) thereof. Much of the discussion and work will be classified, and the studies will be discussing substantial amounts of contractor-proprietary information.

DATES: 21 June-1 July 2004.

ADDRESSES: The Arnold and Mabel Beckman Center, Irvine CA.

FOR FURTHER INFORMATION CONTACT: Lt Col Nowack, Air Force Scientific Advisory Board Secretariat, 1180 Air Force Pentagon, Rm 5D982, Washington, DC 20330-1180, (703) 697-4811.

Pamela D. Fitzgerald,
Air Force Federal Register Liaison Officer.

[FR Doc. 04-11638 Filed 5-21-04; 8:45 am]

BILLING CODE 5001-05-P